FEDERAL COMMUNICATIONS COMMISSION

47 CFR Part 2

[FCC 12-60]

Grantee Codes for Certified Radiofrequency Equipment

AGENCY: Federal Communications Commission.

ACTION: Final rule.

SUMMARY: This document modifies the rules to remove the restriction that grantee codes must consist of only three characters. This action will permit the Commission to issue longer grantee codes, thus greatly increasing the supply of available codes and ensuring that it will continue to have new ones to assign to parties that wish to certify new equipment.

DATES: Effective August 24, 2012.

FOR FURTHER INFORMATION CONTACT: Hugh Van Tuyl, Office of Engineering and Technology, (202) 418-7506, email: hugh.vantuyl@fcc.gov, TTY (202) 418-2989.

SUPPLEMENTARY INFORMATION: This is a summary of the Commission's Order, FCC 12-60, adopted June 13, 2012 and released June 13, 2012. The full text of this document is available for inspection and copying during normal business hours in the FCC Reference Center (Room CY-A257), 445 12th Street SW., Washington, DC 20554. The complete text of this document also may be purchased from the Commission's copy contractor, Best Copy and Printing, Inc., 445 12th Street SW., Room CY-B402, Washington, DC 20554. The full text may also be downloaded at: www.fcc.gov.

Summary of the Order

1. The Commission operates an equipment authorization program for radiofrequency (RF) devices under part 2 of its rules. This program is one of the primary means that the Commission uses to ensure that the multitude of RF devices used in the United States operates effectively without causing harmful interference and otherwise complies with the rules. RF devices that are subject to the “certification” procedure of the equipment authorization program must be labeled with an FCC identifier (“FCC ID”) that is unique to the device. This FCC ID includes a Commission-issued code identifying the grantee of the certification (“grantee code”). By this action, the Commission modifies §§ 2.925 and 2.926 of the rules to remove the restriction that grantee codes must consist of only three characters. This action will permit the Commission to issue longer grantee codes, thus greatly increasing the supply of available codes and ensuring that it will continue to have new ones to assign to parties that wish to certify new equipment.

2. Authorized equipment must be labeled to show that it complies with the rules prior to being imported into or marketed within the United States. The label for a device subject to certification must include an FCC ID that conforms to a format defined in the rules. The FCC ID consists of two parts: a three-character alphanumeric grantee code assigned by the Commission to the party that applies for equipment authorization, and a one- to 14- character product code selected by the applicant. Once a party obtains a grantee code from the Commission, the party may use the same grantee code, but must use a different product code, each time it applies for a new equipment certification from the Commission or a TCB. The Commission adopted a three-character format for grantee codes in 1979 and codified that format in the rules.

3. Due to the large number of grantee codes that have already been assigned to manufacturers and other parties responsible for equipment compliance, the Office of Engineering and Technology anticipates that the Commission may run out of unassigned grantee codes in the near future. If that were to occur, parties that did not already have a grantee code would not be able to apply for certification of RF equipment. The Commission therefore finds it necessary to modify the rules to increase the supply of grantee codes to accommodate all parties that wish to obtain a grantee code and apply for equipment certification in the future.

4. Specifically, the Commission is eliminating the requirement in § 2.926(c) that grantee codes must consist of three alphanumeric characters, and it is replacing it with a requirement that grantee codes will consist of alphanumeric or other characters in a format specified by the Commission's Office of Engineering and Technology. The Commission is not codifying a particular grantee code format in the rules in order to allow the Office of Engineering and Technology the flexibility to modify the format in the future if necessitated by changing technology or other factors. The Commission also eliminated the text in § 2.925(a)(1) that shows an example of a three character grantee code.

5. While three characters was an adequate code length for grantee codes when the rules were originally adopted and for many years thereafter, the Commission finds that it is now necessary to permit longer codes to allow for a significantly greater number of possible combinations. In particular, the Commission notes that the Office of Engineering and Technology is planning to issue new five-character grantee codes in the format described in Appendix B of the Order. Using this code length and format, the Commission calculates that there will be approximately 8 million additional grantee codes. The Commission currently assigns approximately 1000 grantee codes per year, so even if the rate of assignment increases substantially in the future, the supply of five-character codes will last for many years. Parties that have been assigned three-character grantee codes may continue to use those codes indefinitely for future applications and for equipment that is already approved. The five-character codes will be assigned only to future applicants for grantee codes once the new rules are effective. The Commission is not changing the requirements for the product code format.

6. The changes adopted in the Order do not require prior notice and an opportunity for comment under the Administrative Procedure Act (APA). Section 553(b) of the APA establishes exceptions to the notice-and-comment requirement, and one of those exceptions is for cases in which the Commission finds good cause for concluding that notice and comment are unnecessary. The rule changes adopted in the Order are minor in nature in that the Commission is changing the format of grantee codes that will be assigned in the future to prospective applicants for equipment certification, but is not changing any other requirements for equipment certification. Further, these changes will not have any effect on parties that have already been assigned three-character codes because they may continue to use them indefinitely. Thus, the Commission concludes that notice and comment are not necessary before changing the rules on grantee code format.

7. The Commission finds that the benefits of the rule changes are significant because the changes will enable it to continue to certify equipment from new parties, thus expanding the range of devices available to consumers. The Commission also finds that the costs of these rule changes are insignificant because it is not appreciably more burdensome for a party to apply for and use a five-character code than a three-character code. There will be no additional burden on parties that already have three-character codes assigned because they may continue to use them indefinitely. Thus, the Commission concludes that the benefits of the rule changes are greater than the costs.

8. The Commission is making the rule changes effective 30 days after date of publication of this Order in the Federal Register. The change in grantee code length necessitates a non-substantive change in the electronic FCC Form 731 that is used to apply for equipment certification. This change to the form does not require prior Office of Management and Budget (OMB) approval, but the Commission will provide OMB with a copy of the revised form for their records. The Commission plans to begin assigning grantee codes with the new format no earlier than 30 days after the revised Form 731 is available, and it will issue a public notice announcing the date on which it will begin issuing five-character grantee codes.

Procedural Matters

Final Paperwork Reduction Act of 1995 Analysis

9. This document makes non-substantive changes to previously approved information collection requirements subject to the Paperwork Reduction Act of 1995 (PRA), Public Law 104-13. It will be submitted to the Office of Management and Budget (OMB) for information purposes.

Congressional Review Act

10. The Commission will send a copy of this Order to Congress and the Government Accountability Office pursuant to the Congressional Review Act, see 5 U.S.C. 801(a)(1)(A).

Ordering Clauses

11. Pursuant to the authority contained in sections 4(i), 302, 303(e), 303(f), and 307 of the Communications Act of 1934, as amended, 47 U.S.C. 154(i), 302a, 303(e), 303(f), and 307 this order is hereby adopted.

12. Part 2 of the Commission's rules is amended as specified in Appendix A of the Order, and such rule amendments shall be effective August 24, 2012.

13. The Commission's Consumer and Governmental Affairs Bureau, Reference Information Center shall send a copy of the Order to the Government Accountability Office pursuant to the Congressional Review Act. See 5 U.S.C. 801(a)(1)(A).

List of Subjects in 47 CFR Part 2

Communications equipment, Reporting and recordkeeping.

Federal Communications Commission.
Marlene H. Dortch,
Secretary.

Final Rules

For the reasons discussed in the preamble, the Federal Communications Commission amends 47 CFR part 2 to read as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.925 is amended by revising paragraph (a)(1) to read as follows:

§ 2.925 Identification of equipment.

(a) * * *

(1) FCC Identifier consisting of the two elements in the exact order specified in § 2.926. The FCC Identifier shall be preceded by the term FCC ID in capital letters on a single line, and shall be of a type size large enough to be legible without the aid of magnification.

* * * * *

3. Section 2.926 is amended by revising paragraph (c) introductory text to read as follows:

§ 2.926 FCC identifier.

* * * * *

(c) A grantee code may consist of Arabic numerals, capital letters, or other characters. The format for this code will be specified by the Commission's Office of Engineering and Technology. A prospective grantee or its authorized representative may receive a grantee code electronically via the Internet at http://www.fcc.gov/eas. The code may be obtained at any time prior to submittal of the application for equipment authorization. However, the fee required by § 1.1103 of this chapter must be submitted and validated within 30 days of the issuance of the grantee code, or the code will be removed from the Commission's records and a new grantee code will have to be obtained.

* * * * *

[FR Doc. 2012-18186 Filed 7-24-12; 8:45 am]

BILLING CODE 6712-01-P